DEPARTMENT OF VETERANS AFFAIRS

[OMB Control No. 2900-0365]

Agency Information Collection Activity: (Request for Disinterment)

AGENCY: National Cemetery Administration, Department of Veterans Affairs.

ACTION: Notice.

SUMMARY: In compliance with the Paperwork Reduction Act (PRA) of 1995, this notice announces that the National Cemetery Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0365.

SUPPLEMENTARY INFORMATION:

Authority: Public Law 104-13; 44 U.S.C. 3501-21.

Title: Request for Disinterment, VA Form 40-4970.

OMB Control Number: 2900-0365.

Type of Review: Revision of a currently approved collection.

Abstract: Claimants complete VA Form 40-4970 to request removal of remains from a national cemetery for interment at another location. Interments made in national cemeteries are permanent and final. All immediate family members of the decedent, including the person who initiated the interment, (whether or not he/she is a member of the immediate family) must provide a written consent before disinterment is granted. VA will accept an order from a court of local jurisdiction in lieu of VA Form 40-4970.

An agency may not conduct or sponsor, and a person is not required to respond to a collection of information unless it displays a currently valid OMB control number. The Federal Register Notice with a 60-day comment period soliciting comments on this collection of information was published at Volume 85, No. 18 on Tuesday, January 28, 2020, page 5068.

Affected Public: Individuals or Households.

Estimated Annual Burden: 296

Estimated Average Burden Per Respondent: 10 minutes.

Frequency of Response: Annual.

Estimated Number of Respondents: 1777.

By direction of the Secretary.
Danny S. Green,
Department Clearance Officer, Office of Quality, Performance and Risk, Department of Veterans Affairs.

[FR Doc. 2020-06988 Filed 4-2-20; 8:45 am]

BILLING CODE 8320-01-P